DEPARTMENT OF STATE

[Public Notice 6544]

Shipping Coordinating Committee; Notice of Meeting

The Shipping Coordinating Committee (SHC) will conduct an open meeting at 10 a.m. on Monday, April 13, 2009, in Room 6103 of the United States Coast Guard Headquarters Building, 2100 Second Street, SW., Washington, DC 20593. The primary purpose of the meeting is to prepare for the seventeenth session of the International Maritime Organization (IMO) Sub-Committee on Flag State Implementation (FSI 17) to be held at the IMO's London headquarters from April 20 to 24, 2009. The primary matters to be considered at FSI 17 include:

—Decisions of other IMO bodies;

—Responsibilities of Governments and measures to encourage flag State compliance;

—Mandatory reports under International Convention for the Prevention of Pollution from Ships, 1973, as modified by the Protocol of 1978 (MARPOL 73/78);

—Port reception facilities-related issues;

—Casualty statistics and investigations;

—Harmonization of port State control activities;

—Port State Control (PSC) Guidelines on seafarers' working hours and PSC guidelines in relation to the Maritime Labour Convention, 2006;

—Development of guidelines on port State control under the 2004 Ballast Water Management (BWM) Convention;

—Comprehensive analysis of difficulties encountered in the implementation of IMO instruments;

—Review of the Survey Guidelines under the Harmonized System of Survey and Certification (HSSC);

—Consideration of International Association of Classification Societies (IACS) unified interpretations;

—Review of the Code for the Implementation of Mandatory IMO Instruments;

—Development of a Code for Recognized Organizations;

—Measures to protect the safety of persons rescued at sea; and

—Election of IMO's FSI Sub-Committee Chairman and Vice-Chairman for 2010.

Members of the public may attend this meeting up to the seating capacity of the room. Please note that due to security considerations, two valid, government-issued photo identification documents must be presented to gain entrance to the building. The Coast Guard Headquarters building is accessible by taxi and privately owned conveyance. Please note that parking in the vicinity of the building is extremely limited and that public transportation is not generally available.

To facilitate attendance to this meeting, those who plan to attend should contact the meeting coordinator, Mr. E.J. Terminella, by e-mail at emanuel.j.terminellajr@uscg.mil; by phone at (202) 372-1239; by fax at (202) 372-1918; or by writing to Commandant (CG-5432), U.S. Coast Guard Headquarters, 2100 2nd Street, SW., Room 1116, Washington, DC 20593-0001—not later than 10 a.m. on Friday, April 10, 2009. Additional information regarding this and other SHC public meetings, and associated IMO meetings, may also be found at: http://www.uscg.mil/hq/cg5/imo.

Dated: March 18, 2009.
Mark Skolnicki,
Executive Secretary, Shipping Coordinating Committee, Department of State.

[FR Doc. E9-6717 Filed 3-24-09; 8:45 am]

BILLING CODE 4710-09-P